DEPARTMENT OF VETERANS AFFAIRS

[OMB Control No. 2900-0723]

Agency Information Collection (Mentor-Protégé Program Application and Reports) Activities Under OMB Review

AGENCY: Office of Management, Department of Veterans Affairs.

ACTION: Notice.

SUMMARY: In compliance with the Paperwork Reduction Act (PRA) of 1995 (44 U.S.C. 3501-3521), this notice announces that the Office of Management (OM), Department of Veterans Affairs, has submitted the collection of information abstracted below to the Office of Management and Budget (OMB) for review and comment. The PRA submission describes the nature of the information collection and its expected cost and burden; it includes the actual data collection instrument.

DATES: Comments must be submitted on or before February 24, 2012.

ADDRESSES: Submit written comments on the collection of information through www.Regulations.gov; or to VA's OMB Desk Officer, OMB Human Resources and Housing Branch, New Executive Office Building, Room 10235, Washington, DC 20503 (202) 395-7316. Please refer to “OMB Control No. 2900-2900-0723” in any correspondence.

FOR FURTHER INFORMATION OR A COPY OF THE SUBMISSION CONTACT: Denise McLamb, Records Management Service (005R1B), Department of Veterans Affairs, 810 Vermont Avenue NW., Washington, DC 20420, (202) 632-7497, FAX (202) 273-0487 or email: denise.mclamb@mail.va.gov. Please refer to “OMB Control No. 2900-0723.”

SUPPLEMENTARY INFORMATION:

Titles:

a. Department of Veterans Affairs Acquisition Regulation (VAAR) Clause 819.7108, Application Process.

b. Department of Veterans Affairs Acquisition Regulation (VAAR) Clause 819.7113, Reports.

OMB Control Number: 2900-0723.

Type of Review: Extension of a currently approved collection.

Abstract: The information collected under Department of Veterans Acquisition Regulation (VAAR) Clauses 819.7108 and 819.7113 will be used to institute a mentor-protégé program whereby large businesses agree to provide mutually developmental support to veteran-owned small business and service-disabled veteran-owned small business. VA will use the data to measure the protégé progress against the developmental plan contained in the approved agreement and to report the specific actions taken by the mentor to increase the participation of the protégé as a prime or subcontractor to VA.

An agency may not conduct or sponsor, and a person is not required to respond to a collection of information unless it displays a currently valid OMB control number. The Federal Register Notice with a 60-day comment period soliciting comments on this collection of information was published on November 15, 2011, page 70828.

Affected Public: Businesses or other for-profits.

Estimated Annual Burden:

a. VAAR Clause 819.7108, Application Process—50 hours

b. VAAR Clause 819.7113, Reports—150 hours.

Estimated Average Burden per Respondent:

a. VAAR Clause 819.7108, Application Process—60 minutes.

b. VAAR Clause 819.7113, Reports—60 minutes.

Frequency of Response: Quarterly.

Estimated Number of Respondents:

a. VAAR Clause 819.7108, Application Process—50.

b. VAAR Clause 819.7113, Reports—50.

Total number of Responses: 200.

Dated: January 20, 2012.
By direction of the Secretary.
Denise McLamb,
Program Analyst, Enterprise Records Service.

[FR Doc. 2012-1549 Filed 1-24-12; 8:45 am]

BILLING CODE 8320-01-P